DEPARTMENT OF TRANSPORTATION

Federal Aviation Administration

14 CFR Part 71

[Docket No. FAA-2016-9086; Airspace Docket No. 15-AEA-7]

RIN 2120-AA66

Proposed Amendment of Air Traffic Service (ATS) Routes; Eastern United States

AGENCY: Federal Aviation Administration (FAA), DOT.

ACTION: Notice of proposed rulemaking (NPRM).

SUMMARY: This action proposes to modify area navigation (RNAV) routes Q-39 and Q-67, in the eastern United States. The modifications would provide a more efficient airway design within a portion of the airspace assigned to the Indianapolis Air Route Traffic Control Center (ARTCC).

DATES: Comments must be received on or before November 21, 2016.

ADDRESSES: Send comments on this proposal to the U.S. Department of Transportation, Docket Operations, 1200 New Jersey Avenue SE., West Building Ground Floor, Room W12-140, Washington, DC 20590; telephone: 1 (800) 647-5527 or (202) 366-9826. You must identify FAA Docket No. FAA-2016-9086 and Airspace Docket No. 15-AEA-7 at the beginning of your comments. You may also submit comments through the Internet at http://www.regulations.gov. You may review the public docket containing the proposal, any comments received, and any final disposition in person in the Dockets Office between 9:00 a.m. and 5:00 p.m., Monday through Friday, except Federal holidays. The Docket Office (telephone: 1 (800) 647-5527), is on the ground floor of the building at the above address.

FAA Order 7400.11A, Airspace Designations and Reporting Points, and subsequent amendments can be viewed online at http://www.faa.gov/air_traffic/publications/. For further information, you can contact the Airspace Policy Group, Federal Aviation Administration, 800 Independence Avenue SW., Washington, DC 20591; telephone: (202) 267-8783. The Order is also available for inspection at the National Archives and Records Administration (NARA). For information on the availability of FAA Order 7400.11A at NARA, call (202) 741-6030, or go to http://www.archives.gov/federal_register/code_of_federal-regulations/ibr_locations.html.

FAA Order 7400.11, Airspace Designations and Reporting Points, is published yearly and effective on September 15.

FOR FURTHER INFORMATION CONTACT: Paul Gallant, Airspace Policy Group, Office of Airspace Services, Federal Aviation Administration, 800 Independence Avenue SW., Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the air traffic service route Q-39 and Q-67 in the eastern United States to maintain the efficient flow of air traffic.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal. Communications should identify both docket numbers (FAA Docket No. FAA-2016-9086 and Airspace Docket No. 15-AEA-7) and be submitted in triplicate to the Docket Management Facility (see ADDRESSES section for address and phone number). You may also submit comments through the Internet at http://www.regulations.gov.

Commenters wishing the FAA to acknowledge receipt of their comments on this action must submit with those comments a self-addressed, stamped postcard on which the following statement is made: “Comments to FAA Docket No. FAA-2016-9086 and Airspace Docket No. 15-AEA-7.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRM's

An electronic copy of this document may be downloaded through the Internet at http://www.regulations.gov. Recently published rulemaking documents can also accessed through the FAA's Web page at http://www.faa.gov/air_Traffic/publications/airspace_amendments/.

You may review the public docket containing the proposal, any comments received and any final disposition in person in the Dockets Office (see ADDRESSES section for address and phone number) between 9:00 a.m. and 5:00 p.m., Monday through Friday, except Federal holidays. An informal docket may also be examined during normal business hours at the office of the Eastern Service Center, Federal Aviation Administration, Room 210, 1701 Columbia Ave., College Park, GA 30337.

Availability and Summary of Documents for Incorporation by Reference

This document proposes to amend FAA Order 7400.11A, Airspace Designations and Reporting Points, dated August 3, 2016, and effective September 15, 2016. FAA Order 7400.11A is publicly available as listed in the ADDRESSES section of this proposed rule. FAA Order 7400.11A lists Class A, B, C, D, and E airspace areas, air traffic service routes, and reporting points.

The Proposal

The FAA is proposing an amendment to Title 14, Code of Federal Regulations (14 CFR) part 71 to modify the alignment of RNAV routes Q-39 and Q-67 in the eastern United States. The proposed modifications would expand the availability of area navigation routes and provide a more efficient airway design within Indianapolis ARTCC's airspace. The proposed route changes are outlined below.

Q-39 RNAV route Q-39 extends between the CLAWD, NC waypoint (WP) and the WISTA, WV, WP. The FAA proposes to shift the alignment of the route slightly to the east bypassing the WISTA WP to cross the TARCI, WV, WP (located at lat. 38°16′36.08 N., long. 081°18′34.08 W.); then the route would continue northward to a new ASERY, WV, WP (located at lat. 38°28′35.97 N., long. 081°17′34.14″ W.).

Q-67 RNAV route Q-67 extends between the SMTTH, TN, WP to the COLTZ, OH, fix. In its current alignment, the route proceeds from the JONEN, KY, WP northward to the COLTZ, OH, fix. The FAA proposes to eliminate the segment between the JONEN WP and the CLOTZ fix and replace it with a segment from the JONEN WP to the DARYN, WV, WP (located at lat. 38°46′07.80″ N., long. 082°00′57.92″ W.). The DARYN WP is located near the Henderson, WV VORTAC.

These route modifications are being proposed to enhance the efficiency of the route structure.

RNAV routes are published in paragraph 2006 of FAA Order 7400.11A dated August 3, 2016, and effective September 15, 2016, which is incorporated by reference in 14 CFR 71.1. The RNAV routes listed in this document will be subsequently published in the Order.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11A, Airspace Designations and Reporting Points, dated August 3, 2016, and effective September 15, 2016, is amended as follows:

Paragraph 2006 United States Area Navigation Routes.

* * * * *

Q-39 CLAWD, NC to ASERY, WV [Amended]
CLAWD, NC | WP | (Lat. 36°25′08.98″ N., long. 081°08′49.75″ W.)
TARCI, WV | WP | (Lat. 38°16′36.08″ N., long. 081°18′34.08″ W.)
ASERY, WV | WP | (Lat. 38°28′35.97″ N., long. 081°17′34.14″ W.)
Q-67 SMTTH, TN to DARYN, WV [Amended]
SMTTH, TN | WP | (Lat. 35°54′41.57″ N., long. 084°00′19.74″ W.)
CEMEX, KY | WP | (Lat. 36°45′44.94″ N., long. 083°23′33.58″ W.)
IBATE, KY | WP | (Lat. 36°59′12.36″ N., long. 083°13′40.36″ W.)
TONIO, KY | FIX | (Lat. 37°15′15.20″ N., long. 083°01′47.53″ W.)
JONEN, KY | WP | (Lat. 37°59′08.91″ N., long. 082°32′46.19″ W.)
DARYN, WV | WP | (Lat. 38°46′07.80″ N., long. 082°00′57.92″ W.)

* * * * *

Issued in Washington, DC, on September 29, 2016.
M. Randy Willis,
Acting Manager, Airspace Policy Group.

[FR Doc. 2016-24209 Filed 10-6-16; 8:45 am]

BILLING CODE 4910-13-P